DEPARTMENT OF THE INTERIOR

Bureau of Land Management

Colorado: Filing of Plats of Survey

April 5, 2005.

Summary: The plats of survey of the following described land will be officially filed in the Colorado State Office, Bureau of Land Management, Lakewood, Colorado, effective 10 a.m., April 6, 2005. All inquiries should be sent to the Colorado State Office, Bureau of Land Management, 2850 Youngfield Street, Lakewood, Colorado 80215-7093.

The plat, representing the dependent resurveys and surveys in Township 2 North, Range 81 West, Sixth Principal Meridian, Group 1397, Colorado, was accepted March 25, 2005.

The supplemental plat, amending the erroneously numbered lot 45, as shown on the plat approved October 30, 1997, to lot 47, and creating new lot 48, is based upon the survey plats approved November 29, 1984 and October 30, 1997 and the mineral survey M.S. 6771, The Cleveland Placer, approved May 16, 1891, and the mineral survey M.S. 1148, Rosa, cancelled August 9, 1984. This supplemental plat was accepted February 9, 2005.

The supplemental plat, correcting the numerical errors in the longitudes for the two witness posts on the Colorado/Wyoming State Boundary and Interstate Highway 25 (I-25) and the distance between Witness Point 44+58.83 and Mile Post 45, as shown on the plat approved May 18, 1998, and is based upon the dependent resurvey plat approved May 18, 1998, and was accepted March 31, 2005.

These plats and resurvey notes were requested by the Bureau of Land Management for administrative and management purposes.

The plat of survey requested by the Realty Staff, White River National Forest, Glenwood Springs, Colorado, on August 11, 2004, for the purpose of identifying the boundaries of National Forest lands to be conveyed and patented out of federal ownership in conjunction with a land exchange at the base of the ski area in Vail, Colorado, under Group 1415 was accepted February 3, 2005.

This plat was requested by the U.S. Forest Service, to facilitate a land exchange, and for administrative and management purposes.

Paul Lukacovic,
Acting Chief Cadastral Surveyor for Colorado.

[FR Doc. 05-7539 Filed 4-14-05; 8:45 am]

BILLING CODE 4310-JB-P